DEPARTMENT OF THE TREASURY

Internal Revenue Service

Art Advisory Panel—Notice of Availability of Report of 2020 Closed Meetings

AGENCY: Internal Revenue Service, Treasury.

ACTION: Notice.

SUMMARY: A report summarizing the closed meeting activities of the Art Advisory Panel during Fiscal Year 2020 has been prepared. A copy of this report has been filed with the Assistant Secretary for Management of the Department of the Treasury.

DATES: Effective Date: This notice is effective June 28, 2021.

ADDRESSES: The report is available at https://www.irs.gov/compliance/appeals/art-appraisal-services.

FOR FURTHER INFORMATION CONTACT: Robin B. Lawhorn, AP:SPR:AAS, Internal Revenue Service/Independent Office of Appeals, 400 West Bay Street, Suite 252, Jacksonville, FL 32202, Telephone number (904) 661-3198 (not a toll free number).

SUPPLEMENTARY INFORMATION: It has been determined that this document is not a major rule as defined in Executive Order 12291 and that a regulatory impact analysis is, therefore, not required. Additionally, this document does not constitute a rule subject to the Regulatory Flexibility Act (5 U.S.C. Chapter 6).

Authority: 5 U.S.C. App. 2, section 10(d), of the Federal Advisory Committee Act, and 5 U.S.C. 552b, of the Government in the Sunshine Act.

Andrew J. Keyso,
Chief, Independent Office of Appeals.

[FR Doc. 2021-14170 Filed 7-1-21; 8:45 am]

BILLING CODE 4830-01-P